DEPARTMENT OF THE INTERIOR

Fish and Wildlife Service

Notice of Meeting of the Trinity Adaptive Management Working Group

AGENCY: Fish and Wildlife Service, Interior.

ACTION: Notice of meeting.

SUMMARY: Pursuant to section 10(a)(2) of the Federal Advisory Committee Act (5 U.S.C. App. I), this notice announces a meeting of the Trinity Adaptive Management Working Group (TAMWG). The TAMWG affords stakeholders the opportunity to give policy, management, and technical input concerning Trinity River restoration efforts to the Trinity Management Council. Primary objectives of the meeting will include: overall orientation to the restoration program, selection of officers, establishment of technical advisory committees, development of operating guidelines, and setting future meeting dates. Background information will be presented on the Trinity River Flow Evaluation, Final Environmental Impact Statement, Implementation Plan, Record of Decision, fiscal year 2003 program of work, approved budget, and status of major planning and construction projects. The meeting is open to the public.

DATES: The Trinity Adaptive Management Working Group will meet from 9 a.m. to 5 p.m. on Thursday, February 20, 2003, and from 8 a.m. to 5 p.m. on Friday, February 21, 2003.

ADDRESSES: The meeting will be held at the Victorian Restaurant, 1709 Main Street, Weaverville, CA 96093.

FOR FURTHER INFORMATION CONTACT: Dr. Mary Ellen Mueller of the U.S. Fish and Wildlife Service, California/Nevada Operations Office, 2800 Cottage Way, W-2606, Sacramento, California 95825, (916) 414-6464. Dr. Mary Ellen Mueller is the designee of the committee's Federal Official—Steve Thompson, Manager of the U.S. Fish and Wildlife Service, California/Nevada Operations Office.

SUPPLEMENTARY INFORMATION: For background information and questions regarding the Trinity River Restoration Program, please contact Douglas Schleusner, Executive Director, Trinity River Restoration Program, PO Box 1300, 1313 South Main Street, Weaverville, California 96093, (530) 623-1800.

For logistical questions related to the February 20-21, 2003 meeting contact Charlie Chamberlain, U.S. Fish and Wildlife Service, Arcata Fish and Wildlife Office, 1655 Heindon Road, Arcata, CA 95521, (707) 822-7201.

Dated: January 27, 2003.
Dan Walsworth,
Manager, California/Nevada Operations Office, Sacramento, CA.

[FR Doc. 03-2478 Filed 2-3-03; 8:45 am]

BILLING CODE 4310-55-P